DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address show below, not later than October 23, 2000.

Interested persons are invited to submit written comments regarding the subject matter of the investigations to the Director, Division of Trade Adjustment Assistance, at the address shown below, not later than October 23, 2000.

The petitions filed in this case are available for inspection at the Office of the Director, Division of Trade Adjustment Assistance, Employment and Training Administration, U.S. Department of Labor, Room C-5311, 200 Constitution Avenue, N.W., Washington, DC 20210.

Signed at Washington, DC this 25th day of September, 2000.
Edward A. Tomchick,
Director, Division of Trade Adjustment Assistance.

Appendix
[Petitions Instituted on 09/25/2000]
TA-W | Subject firm (petitioners) | Location | Date of petition | Product(s)
38,115 | Wallowa Forest Products (Wkrs) | Wallowa, OR | 09/18/2000 | Dimensional Lumber.
38,116 | SI Cutting (Wkrs) | Opalocka, FL | 09/13/2000 | Fabric Cutting.
38,117 | California Direct Service (Wkrs) | San Diego, CA | 09/13/2000 | Print of Direct Mail & Data Processing.
38,118 | Livingston Apparel (Wkrs) | Livington, AL | 09/12/2000 | Sweatshirts, Pants, Shorts.
38,119 | John Dusenbery Co: (IBS) | Randolph, NJ | 09/11/2000 | Large Industrial Converting Equipment.
38,120 | Bausch and Lomb (Wkrs) | Rochester, NY | 09/06/2000 | Contact Lens.
38,121 | Duke Energy Field Service (Wkrs) | Ada, OK | 08/24/2000 | Natural Gas and Gas Liquids.
38,122 | Equitable Production Co. (Wkrs) | Kingsport, TN | 09/13/2000 | Oil and Gas.
38,123 | Thaw Corporation Co. | Seattle, WA | 09/06/2000 | Fleece, Powerstretch, Gore-Tex.
38,124 | A.D.H. Manufacturing (Co.) | Etowah, TN | 09/08/2000 | Ladies' and Girl's Clothing.
38,125 | Santa's Best (Co.) | Millville, NJ | 09/12/2000 | Plush & Non-Woven Textile Christmas Item.
38,126 | Eastland Manufacturing (Co.) | Freeport, ME | 09/13/2000 | Mens' & Women's Shoes, Boots.
38,127 | Ansell Healthcare (Co.) | Dothan, AL | 09/12/2000 | Condoms.
38,128 | Fujitsu Computer Products (Co.) | Hillsboro, OR | 09/13/2000 | Computer Products.
38,129 | Eramet Marietta (Co.) | Marietta, OH | 09/11/2000 | Manganese Metal.
38,130 | Elberton Manufacturing (UNITE) | Elberton, GA | 09/08/2000 | Ladies' Blouses.
38,131 | Imperial Coat Front (UNITE) | New York City, NY | 09/10/2000 | Lapels for Suits and Coats.
38,132 | Christina Coat and Suit (Wkrs) | Brooklyn, NY | 09/12/2000 | Ladies' Jackets, Skirts.
38,133 | UFE (Wkrs) | El Paso, TX | 09/12/2000 | Automotive Plastic Components.
38,134 | Antonio Clothing (UNITE) | New York, NY | 09/14/2000 | Men's Jackets and Overcoats.
38,135 | Archer Daniels Midland (Wkrs) | Helena, AR | 09/08/2000 | Soybeans, Soybean Oil and Meal.

[FR Doc. 00-26160 Filed 10-11-00; 8:45 am]

BILLING CODE 4510-30-M